DEPARTMENT OF THE INTERIOR

Fish and Wildlife Service

[FWS-R1-ES-2008-N0047; 10120-1113-0000-C4]

Endangered and Threatened Wildlife and Plants: Initiation of 5-Year Status Reviews for 70 Species in Idaho, Montana, Oregon, Washington, and the Pacific Islands

AGENCY: Fish and Wildlife Service, Interior.

ACTION: Notice of review.

SUMMARY: We, the U.S. Fish and Wildlife Service, initiate 5-year status reviews for 70 species in Idaho, Montana, Oregon, Washington, and the Pacific Islands under the Endangered Species Act of 1973, as amended (Act). We request any new information on these species that may have a bearing on their classification as endangered or threatened. Based on the results of these 5-year reviews, we will determine whether these species are properly classified under the Act.

DATES: We must receive your information no later than June 30, 2008. However, we will continue to accept new information about any listed species at any time.

ADDRESSES: See “Public Solicitation of New Information” section for instructions on how to submit information.

FOR FURTHER INFORMATION CONTACT: For species-specific information, contact the appropriate individual named in the “Public Solicitation of New Information” section, below. Individuals who are hearing impaired or speech impaired may call the Federal Relay Service at (800) 877-8337 for TTY assistance.

SUPPLEMENTARY INFORMATION:

Why Are 5-Year Reviews Conducted?

Under the Endangered Species Act (Act) (16 U.S.C. 1531 et seq.), we maintain a List of Endangered and Threatened Wildlife and Plants (List) at 50 CFR 17.11 (for animals) and 17.12 (for plants). Section 4(c)(2)(A) of the Act requires that we conduct a review of listed species at least once every 5 years. Then, on the basis of such reviews under section 4(c)(2)(B), we determine whether or not any species should be removed from the List (delisted), or reclassified from endangered to threatened or from threatened to endangered. These actions must be supported by the best scientific and commercial data available. Delisting a species is considered only if such data substantiates that the species is neither endangered nor threatened for one or more of the following reasons: (1) The species is extinct; (2) the species is recovered; and/or (3) the original data available when the species was listed, or the interpretation of such data, were in error (50 CFR 424.11(d)). Any change in Federal classification would require a separate rulemaking process (i.e., a proposed rule, public comment period, and final rule). Regulations at 50 CFR 424.21 require that we publish a notice in the Federal Register announcing those species under active review. This notice announces our active review of the 70 species listed in Table 1.

Table 1.—Species for Which We Are Initiating a Status Review To Determine if They Are Appropriately Listed Under the U.S. Endangered Species Act
Common name | Scientific name | Status | Current range | Final listing rule
ANIMALS
Akepa, Hawaii (honeycreeper) | Loxops coccineus coccineus | Endangered | U.S.A. (HI) | 35 FR 16047; 10/13/1970
Akiapola‘au (honeycreeper) | Hemignathus munroi | Endangered | U.S.A. (HI) | 32 FR 4001; 03/11/1967
Coot, Hawaiian | Fulica americana alai | Endangered | U.S.A. (HI) | 35 FR 16047; 10/13/1970
Creeper, Hawaii | Oreomystis mana | Endangered | U.S.A. (HI) | 40 FR 44149; 10/28/1975
Megapode, Micronesian | Megapodius laperouse | Endangered | U.S.A. (MP), Palau | 35 FR 8491; 06/02/1970
Millerbird, Nihoa (old world warbler) | Acrocephalus familiaris kingi | Endangered | U.S.A. (HI) | 32 FR 4001; 03/11/1967
Moorhen, Hawaiian common | Gallinula chloropus sandvicensis | Endangered | U.S.A. (HI) | 32 FR 4001; 03/11/1967
Shearwater, Newell’s Townsend's | Puffinus auricularis newelli | Threatened | U.S.A. (HI) | 40 FR 44149; 10/28/1975
Stilt, Hawaiian | Himantopus mexicanus knudseni | Endangered | U.S.A. (HI) | 35 FR 16047; 10/13/1970
Swiftlet, Mariana gray | Aerodramus vanikorensis bartschi | Endangered | U.S.A. (GU, MP) | 49 FR 33881; 08/27/1984
White-eye, Rota bridled | Zosterops rotensis | Endangered | U.S.A. (MP) | 69 FR 3022; 01/22/2004
PLANTS
‘Akoko | Euphorbia haeleeleana | Endangered | U.S.A. (HI) | 61 FR 53108; 10/10/1996
Alani | Melicope pallida | Endangered | U.S.A. (HI) | 59 FR 9304; 02/25/1994
Alani | Melicope quadrangularis | Endangered | U.S.A. (HI) | 59 FR 9304; 02/25/1994
Awiwi | Centaurium sebaeoides | Endangered | U.S.A. (HI) | 56 FR 55770; 10/29/1991
Awiwi | Hedyotis cookiana | Endangered | U.S.A. (HI) | 59 FR 9304; 02/25/1994
‘Ae | Zanthoxylum hawaiiense | Endangered | U.S.A. (HI) | 59 FR 10305; 03/04/1994
Bluegrass, Hawaiian | Poa sandvicensis | Endangered | U.S.A. (HI) | 57 FR 20580; 05/13/1992
Bluegrass, Mann’s | Poa mannii | Endangered | U.S.A. (HI) | 59 FR 56330; 11/10/1994
Gentner's fritillary | Fritillaria gentneri | Endangered | U.S.A. (CA, OR) | 64 FR 69195; 12/10/1999
Fern, pendant kihi | Adenophorus periens | Endangered | U.S.A. (HI) | 59 FR 56333; 11/10/1994
Haha | Cyanea koolauensis | Endangered | U.S.A. (HI) | 61 FR 53089; 10/10/1996
Haha | Cyanea recta | Threatened | U.S.A. (HI) | 61 FR 53070; 10/10/1996
Haha | Cyanea remyi | Endangered | U.S.A. (HI) | 61 FR 53070; 10/10/1996
Ha‘iwale | Cyrtandra limahuliensis | Threatened | U.S.A. (HI) | 59 FR 9304; 02/25/1994
Heau | Exocarpos luteolus | Endangered | U.S.A. (HI) | 59 FR 9304; 02/25/1994
Iliau, dwarf | Wilkesia hobdyi | Endangered | U.S.A. (HI) | 57 FR 27859; 06/22/1992
Ischaemum, Hilo | Ischaemum byrone | Endangered | U.S.A. (HI) | 59 FR 10305; 03/04/1994
Kaulu | Pteralyxia kauaiensis | Endangered | U.S.A. (HI) | 59 FR 9304; 02/25/1994
Koki‘o | Kokia kauaiensis | Endangered | U.S.A. (HI) | 61 FR 53070; 10/10/1996
Koki‘o ke‘oke‘o | Hibiscuswaimeaessp. hannerae | Endangered | U.S.A. (HI) | 61 FR 53070; 10/10/1996
Kolea | Myrsine linearifolia | Threatened | U.S.A. (HI) | 61 FR 53070; 10/10/1996
Kuahiwi laukahi | Plantago princeps | Endangered | U.S.A. (HI) | 59 FR 56333; 11/10/1994
Kuawawaenohu | Alsinidendron lychnoides | Endangered | U.S.A. (HI) | 61 FR 53089; 10/10/1996
Laulihilihi | Schiedea stellarioides | Endangered | U.S.A. (HI) | 61 FR 53089; 10/10/1996
Lo‘ulu | Pritchardia napaliensis | Endangered | U.S.A. (HI) | 61 FR 53070; 10/10/1996
Mahoe | Alectryon macrococcus | Endangered | U.S.A. (HI) | 57 FR 20772; 05/15/1992
Mapele | Cyrtandra cyaneoides | Endangered | U.S.A. (HI) | 61 FR 53070; 10/10/1996
Ma‘oli‘oli | Schiedea apokremnos | Endangered | U.S.A. (HI) | 56 FR 49639; 09/30/1991
Ma‘oli‘oli | Schiedea kealiae | Endangered | U.S.A. (HI) | 61 FR 53089; 10/10/1996
Naupaka, dwarf | Scaevola coriacea | Endangered | U.S.A. (HI) | 51 FR 17971; 05/16/1986
Na‘ena‘e | Dubautia latifolia | Endangered | U.S.A. (HI) | 57 FR 20580; 05/13/1992
Nehe | Lipochaeta fauriei | Endangered | U.S.A. (HI) | 59 FR 9304; 02/25/1994
Nehe | Lipochaeta waimeaensis | Endangered | U.S.A. (HI) | 59 FR 9304; 02/25/1994
No common name | Abutilon eremitopetalum | Endangered | U.S.A. (HI) | 56 FR 47686; 09/20/1991
No common name | Bonamia menziesii | Endangered | U.S.A. (HI) | 59 FR 56333; 11/10/1994
No common name | Chamaesyce halemanui | Endangered | U.S.A. (HI) | 57 FR 20580; 05/13/1992
No common name | Diplazium molokaiense | Endangered | U.S.A. (HI) | 59 FR 49025; 09/26/1994
No common name | Gouania meyenii | Endangered | U.S.A. (HI) | 56 FR 55770; 10/29/1991
No common name | Hesperomannia lydgatei | Endangered | U.S.A. (HI) | 56 FR 47695; 09/20/1991
No common name | Mariscus pennatiformis | Endangered | U.S.A. (HI) | 59 FR 56333; 11/10/1994
No common name | Munroidendron racemosum | Endangered | U.S.A. (HI) | 59 FR 9304; 02/25/1994
No common name | Poa siphonoglossa | Endangered | U.S.A. (HI) | 57 FR 20580; 05/13/1992
No common name | Remya kauaiensis | Endangered | U.S.A. (HI) | 56 FR 1450; 01/14/1991
No common name | Remya montgomeryi | Endangered | U.S.A. (HI) | 56 FR 1450; 01/14/1991
No common name | Schiedea helleri | Endangered | U.S.A. (HI) | 61 FR 53070; 10/10/1996
No common name | Schiedea membranacea | Endangered | U.S.A. (HI) | 61 FR 53070; 10/10/1996
No common name | Schiedeaspergulinavar. leiopoda | Endangered | U.S.A. (HI) | 59 FR 9304; 02/25/1994
No common name | Schiedeaspergulinavar. spergulina | Threatened | U.S.A. (HI) | 59 FR 9304; 02/25/1994
No common name | Silene hawaiiensis | Threatened | U.S.A. (HI) | 59 FR 10305; 03/04/1994
No common name | Silene lanceolata | Endangered | U.S.A. (HI) | 57 FR 46325; 10/08/1992
No common name | Spermolepis hawaiiensis | Endangered | U.S.A. (HI) | 59 FR 56333; 11/10/1994
No common name | Stenogyne bifida | Endangered | U.S.A. (HI) | 57 FR 46325; 10/08/1992
Oha | Delissea rivularis | Endangered | U.S.A. (HI) | 61 FR 53070; 10/10/1996
O‘ha wai | Clermontia lindseyana | Endangered | U.S.A. (HI) | 59 FR 10305; 03/04/1994
Ohai | Sesbania tomentosa | Endangered | U.S.A. (HI) | 59 FR 56333; 11/10/1994
Pu‘uka‘a | Cyperus trachysanthos | Endangered | U.S.A. (HI) | 61 FR 53108; 10/10/1996
Rough popcornflower | Plagiobothrys hirtus | Endangered | U.S.A. (OR) | 65 FR 3866; 01/25/2000
Spalding's catchfly | Silene spaldingii | Threatened | U.S.A. (ID, MT, OR, WA) | 66 FR 51597; 10/10/2001
Uhiuhi | Caesalpinia kavaiense | Endangered | U.S.A. (HI) | 51 FR 24672; 07/08/1996

What Information Do We Consider in the Review?

A 5-year review considers all new information available at the time of the review. In conducting these reviews, we consider data that has become available since the listing determination or most recent status review, such as:

• Species biology including, but not limited to, population trends, distribution, abundance, demographics, and genetics;

• Habitat conditions including, but not limited to, amount, distribution, and suitability;

• Conservation measures that have been implemented that benefit the species;

• Threat status and trends (see five factors under heading “How Do We Determine Whether a Species is Endangered or Threatened?”); and

• Other new information, data, or corrections including, but not limited to, taxonomic or nomenclatural changes, identification of erroneous information contained in the List, and improved analytical methods.

How Do We Determine Whether a Species Is Endangered or Threatened?

Section 4(a)(1) of the Act requires that we determine whether a species is endangered or threatened based on one or more of the five following factors:

A. The present or threatened destruction, modification, or curtailment of its habitat or range;

B. Overutilization for commercial, recreational, scientific, or educational purposes;

C. Disease or predation;

D. The inadequacy of existing regulatory mechanisms; or

E. Other natural or manmade factors affecting its continued existence.

Our assessment of these factors is required, under section 4(b)(1) of the Act, to be based solely on the best scientific and commercial data available.

What Could Happen As a Result of This Review?

If we find information concerning the 70 species listed in Table 1 indicating that a change in classification is warranted, we may propose to: (a) Reclassify the species from threatened to endangered; (b) reclassify the species from endangered to threatened; or (c) remove the species from the List. If we find that a change in classification is not warranted, the species will remain on the List and retain its current status.

Public Solicitation of New Information

To ensure that these 5-year reviews are complete and based on the best available scientific and commercial information, we solicit new information from the public, governmental agencies, Tribes, the scientific community, environmental entities, industry, and any other interested parties concerning the status of the species in Table 1.

If you wish to provide information, submit your comments and materials to the Field Supervisors at the appropriate Fish and Wildlife Office listed below. Before including your address, phone number, e-mail address, or other personal identifying information in your comment, you should be aware that your entire comment—including your personal identifying information—may be made publicly available at any time. While you can ask us in your comment to withhold your personal identifying information from public review, we cannot guarantee that we will be able to do so.

For the species under review, submit information and direct species-specific questions to the addresses and individuals as follows:

Gentner's fritillary and rough popcornflower

Send information to: Field Supervisor, Attention: 5-Year Review, U.S. Fish and Wildlife Service, Oregon Fish and Wildlife Office, 2600 SE 98th Avenue, Suite 100, Portland, OR 97266, or to FW1OR5yearReview@fws.gov.

Questions: Rollie White, 503-231-6179.

Spalding's catchfly

Send information to: Field Supervisor, Attention: 5-Year Review, U.S. Fish and Wildlife Service, Snake River Fish and Wildlife Office, 1387 S. Vinnell Way, Suite 368, Boise, ID 83709, or to FW1SRBOcomment@fws.gov.

Questions: Susan Burch, 208-378-5243.

Species in Hawaii, Commonwealth of the Northern Mariana Islands, and Territory of Guam

Send information to: Field Supervisor, Attention: 5-Year Review, U.S. Fish and Wildlife Service, Pacific Islands Fish and Wildlife Office, 300 Ala Moana Blvd., Room 3-122, Box 50088, Honolulu, HI 96850, or to pifwo-5yr-review@fws.gov.

Questions: Marilet A. Zablan, 808-792-9400.

Completed and Active Reviews

A list of all species under active 5-year review, for which the Pacific Region of the Service is the lead region, including those we are initiating under this Notice, are available at: http://www.fws.gov/pacific/ecoservices/endangered/recovery/5yearactive.html.

Completed 5-year reviews, for which the Pacific Region of the Service is the lead region, are available at: http://www.fws.gov/pacific/ecoservices/endangered/recovery/5yearcomplete.html.

Authority: This document is published under the authority of the Endangered Species Act of 1973, as amended (16 U.S.C. 1531 et seq.).

Dated: March 21, 2008.
Renne R. Lohoefener,
Regional Director, Region 1, U.S. Fish and Wildlife Service.

[FR Doc. E8-9198 Filed 4-28-08; 8:45 am]

BILLING CODE 4310-55-P